FEDERAL RESERVE SYSTEM

Notice of Proposals to Engage in Permissible Nonbanking Activities or to Acquire Companies that are Engaged in Permissible Nonbanking Activities; Correction

This notice corrects a notice (FR Doc. 04-26284) published on page 69370 of the issue for Monday, November 29, 2004.

Under the Federal Reserve Bank of San Francisco heading, the entry for The Bank of Tokyo-Mitsubishi, Ltd., and Mitsubishi Tokyo Financial Group, Inc., both of Tokyo, Japan, is revised to read as follows:

A. Federal Reserve Bank of San Francisco (Tracy Basinger, Director, Regional and Community Bank Group) 101 Market Street, San Francisco, California 94105-1579:

1. The Bank of Tokyo-Mitsubishi, Ltd., and Mitsubishi Tokyo Financial Group, Inc., both of Tokyo, Japan; to acquire UFJ Futures, L.L.C., Chicago, Illinois, and Central Leasing (U.S.A.), Inc., Florence, Kentucky, and thereby engage in the finance leasing of equipment, pursuant to section 225.28(b)(3), the execution and clearance of futures and options contracts and other transactional services, pursuant to section 225.28 (b)(7) of Regulation Y.

In addition, Mitsubishi Bank & Trust, Corporation, Tokyo, Japan, and Mitsubishi Tokyo Financial Group, Inc., Tokyo, Japan, has applied to acquire UFJ Trust Company of New York, New York, and thereby engage in providing trust services on a national and international basis, pursuant to section 225.28(b)(5) of Regulation Y.

Comments on this application must be received by December 13, 2004.

Board of Governors of the Federal Reserve System, December 2, 2004.
Robert deV. Frierson,
Deputy Secretary of the Board.

[FR Doc. 04-26936 Filed 12-7-04; 8:45 am]

BILLING CODE 6210-01-S